DEPARTMENT OF JUSTICE

Amended Notice of Lodging Proposed Consent Decree

This Notice amends and replaces the original notice published on October 10, 2012, 77 FR 61640. In accordance with Departmental Policy, 28 CFR 50.7, notice is hereby given that a proposed Consent Decree in United States v. Snowden, Civil Action No. 3:12-cv-04107-SRU, was lodged with the United States District Court for the District of Connecticut on October 2, 2012.

This proposed Consent Decree concerns a complaint filed by the United States against Guy B. Snowden, Diane P. Snowden, FCF Realty, LLC, and Falls Creek Farm, LLC, pursuant to sections 309(b), 309(d) and 404 of the Clean Water Act, 33 U.S.C. 1319(b), 1319(d) and 1344, to obtain injunctive relief and impose civil penalties against the Defendants for violating the Clean Water Act by discharging pollutants without a permit into waters of the United States. The proposed Consent Decree resolves these allegations by requiring the Defendants to restore the impacted areas and/or perform mitigation, and to pay a civil penalty. The proposed Consent Decree also calls for the Defendants to establish a conservation easement to preserve wetlands and associated upland habitat.

The Department of Justice will accept written comments relating to this proposed Consent Decree for thirty (30) days from the date of publication of this Notice. Please address comments to Joshua M. Levin, Senior Attorney, United States Department of Justice, Environment and Natural Resources Division, Environmental Defense Section, P.O. Box 7611, Washington, DC 20044, and refer to United States v. Snowden, DJ # 90-5-1-1-18622/1.

The proposed Consent Decree may be examined electronically at the Clerk's Office, United States District Court for the District of Connecticut. The Clerk's Office has three locations: Brien McMahon Federal Building, 915 Lafayette Boulevard, Bridgeport, CT 06604; Abraham Ribicoff Federal Building, 450 Main Street, Hartford, CT 06103; and Richard C. Lee Federal Building, 141 Church Street, New Haven, CT 06510. In addition, the proposed Consent Decree may be examined electronically at http://www.justice.gov/enrd/Consent_Decrees.html.

Cherie L. Rogers,
Assistant Section Chief, Environmental Defense Section, Environment and Natural Resources Division.

[FR Doc. 2012-25323 Filed 10-15-12; 8:45 am]

BILLING CODE 4410-15-P